SECURITIES AND EXCHANGE COMMISSION

[File No. 500-1]

In the Matter of China Voice Holding Corp., China Yongxin Pharmaceuticals, Inc., Creative Technologies Holdings, Inc., Crestek, Inc., Crys*Tel Telecommunications.com, Inc. (n/k/a Fleet Management Solutions, Inc.), CSI Computer Specialists, Inc., and CST Entertainment, Inc. (n/k/a Legacy Holding, Inc.); Order of Suspension of Trading

October 24, 2012.

It appears to the Securities and Exchange Commission that there is a lack of current and accurate information concerning the securities of China Voice Holding Corp. because it has not filed any periodic reports since the period ended December 31, 2010.

It appears to the Securities and Exchange Commission that there is a lack of current and accurate information concerning the securities of China Yongxin Pharmaceuticals, Inc. because it has not filed any periodic reports since the period ended September 30, 2010.

It appears to the Securities and Exchange Commission that there is a lack of current and accurate information concerning the securities of Creative Technologies Holdings, Inc. because it has not filed any periodic reports since the period ended March 31, 2002.

It appears to the Securities and Exchange Commission that there is a lack of current and accurate information concerning the securities of Crestek, Inc. because it has not filed any periodic reports since the period ended March 31, 1993.

It appears to the Securities and Exchange Commission that there is a lack of current and accurate information concerning the securities of Crys*Tel Telecommunications.com, Inc. (n/k/a Fleet Management Solutions, Inc.) because it has not filed any periodic reports since January 19, 2001.

It appears to the Securities and Exchange Commission that there is a lack of current and accurate information concerning the securities of CSI Computer Specialists, Inc. because it has not filed any periodic reports since the period ended June 30, 2000.

It appears to the Securities and Exchange Commission that there is a lack of current and accurate information concerning the securities of CST Entertainment, Inc. (n/k/a Legacy Holding, Inc.) because it has not filed any periodic reports since the period ended September 30, 2008.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on October 24, 2012, through 11:59 p.m. EST on November 6, 2012.

By the Commission.
Jill M. Peterson,
Assistant Secretary.

[FR Doc. 2012-26506 Filed 10-24-12; 11:15 am]

BILLING CODE 8011-01-P